DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Evaluation of the CMHS/CSAT Collaborative Program on Homeless Families: Women With Psychiatric, Substance Use, or Co-Occurring Disorders and Their Dependent Children, Phase II—New—SAMHSA's Center for Mental Health Services (CMHS) and Center for Substance Abuse Treatment (CSAT), through a set of cooperative agreements, proposes to conduct a longitudinal, multi-site evaluation study assessing mental health, substance abuse, and trauma interventions received by homeless mothers with psychiatric, substance use, or co-occurring disorders and their dependent children. The study will advance knowledge on appropriate and effective approaches to improving families residential stability, overall functioning, and ultimate self-sufficiency.

Data collection will be conducted over a 33-month period. A total of 1,600 participants will be recruited from eight sites. At each site, a documented treatment intervention will be tested in comparison to an alternative treatment condition. Participants will be interviewed at baseline (within two weeks of entering a program) as well as three additional times (3 months after program entry, 9 months after program entry, and 15 months after program entry). Trained interviewers will administer the interviews to participating mothers. Information on the children will be obtained from the mother.

Key outcomes for the mothers are increased residential stability, decreased substance use, decreased psychological distress, improved mental health functioning, increased trauma recovery, improved health, improved functioning as a parent, and decreased personal violence. Outcomes for the children are reduced emotional/behavioral problems and improved school attendance.

To reduce burden and increase uniformity across the study sites, a central Coordinating Center will develop and administer common data entry and tracking computer programs. A variety of quality control procedures will also be implemented to ensure the integrity and uniformity of the data collected. Data will be submitted to the Coordinating Center via electronic means. Training and technical assistance will be provided to all sites on data submission. Sites will be asked to follow uniform procedures for submitting their data.

The estimated response burden is as follows:

Interview | Number of respondents | Responses per respondent | Burden per response (hrs.) | Total burden hours
Screening—MINI | 2,280 | 1 | .25 | 570
Baseline | 1,600 | 1 | 1.58 | 2,528
Follow-Up 1 (3 months) | 1,600 | 1 | 1.25 | 2,000
Follow-Up 2 (9 months) | 1,600 | 1 | 1.25 | 2,000
Follow-Up 3 (15 months) | 1,600 | 1 | 1.25 | 2,000
Total | 2,280 |  |  | 9,098
3-yr annual average | 2,280 |  |  | 3,032

Written comments and recommendations concerning the proposed information collection should be sent within 30 days of this notice to: Lauren Wittenberg, Human Resources and Housing Branch, Office of Management and Budget, New Executive Office Building, Room 10235, Washington, DC 20503.

Dated: June 27, 2001.
Richard Kopanda,
Executive Officer, SAMHSA.

[FR Doc. 01-16777 Filed 7-3-01; 8:45 am]

BILLING CODE 4162-20-P